DEPARTMENT OF COMMERCE

International Trade Administration

North American Free Trade Agreement (NAFTA), Article 1904; Binational Panel Review: Notice of Completion of Panel Review

AGENCY: United States Section, NAFTA Secretariat, International Trade Administration, Department of Commerce.

ACTION: Notice of completion of panel review.

SUMMARY: In accordance with Rules 78 and 80 of the NAFTA Rules of Procedure for Article 1904 Binational Panel Reviews, the Large Residential Washers from Mexico (Secretariat File Number: USA-MEX-2019-1904-04) Panel Review was completed and the panelists were discharged from their duties effective March 21, 2022.

FOR FURTHER INFORMATION CONTACT: Vidya Desai, Acting United States Secretary, NAFTA Secretariat, Room 2061, 1401 Constitution Avenue NW, Washington, DC 20230, 202-482-5438.

SUPPLEMENTARY INFORMATION: Chapter 19 of Article 1904 of NAFTA provides a dispute settlement mechanism involving trade remedy determinations issued by the Government of the United States, the Government of Canada, and the Government of Mexico. Following a Request for Panel Review, a Binational Panel is composed to review the trade remedy determination being challenged and issue a binding Panel Decision. For the complete NAFTA Rules of Procedure for Article 1904 Binational Panel Reviews, please see https://can-mex-usa-sec.org/secretariat/agreement-accord-acuerdo/nafta-alena-tlcan/rules-regles-reglas/index.aspx?lang=eng.

Dated: March 21, 2022.
Vidya Desai,
Acting U.S. Secretary, NAFTA Secretariat.

[FR Doc. 2022-06283 Filed 3-23-22; 8:45 am]

BILLING CODE 3510-GT-P